ENVIRONMENTAL PROTECTION AGENCY

[ER-FRL-6610-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of FEDERAL ACTIVITIES AT (202) 564-7167. An explanation of the ratings assigned to draft environmental impact statements (EISs) was published in FR dated April 14, 2000 (65 FR 20157).

Draft EISs

ERP No. D-AFS-K65226-00 Rating EO2, Sierra Nevada Forest Plan Amendment Project, Implementation, several counties, CA and NV.

Summary: EPA expressed environmental objections based on problems with purpose and need, alternative development, water and air quality impacts, analysis of cumulative effects, and the relationship of the Forest Plan Amendment to the Quincy pilot project. EPA offered specific suggestions and requests that the final EIS address the issues addressed above as well as the decision to defer consideration of strategies to address adverse impacts associated with the Forest Service road system in the planning area.

ERP No. D-AFS-L65357-ID Rating EC2, East Beaver and Miner's Creek Timber Sales and Prescribed Burning Project, Implementation, Caribou-Targhee National Forest, Dubois Ranger District, Clark County, ID.

Summary: EPA expressed concern with the preferred alternative due to potential impacts to aquatic ecosystem health and lack of data/analysis to support conclusions; uncertain funding of restoration/mitigation projects upon which impact analyses were based; and the aggressive approach to prescribed burning that may not achieve intended goals.

ERP No. D-AFS-L65360-AK Rating EC2, Madan Timber Sale, Implementation, Tongass National Forest, Wrangell Ranger District, COE Section 404 Permit and NPDES Permit, AK.

Summary: EPA expressed concerns about the potential impacts from roads and Log Transfer Facilities (LTFs) to water quality, aquatic resources, and wildlife in the project area. EPA recommends that the EIS clarify proposed road maintenance activities, try to realign roads to avoid wetlands, and decommission roads following harvesting. In addition, EPA recommends that hardened surfaces be placed at permanent LTF sites to help capture spilled fuels and that the Forest Service consult with National Marine Fisheries Service about the potential impacts of LTFs to Essential Fish Habitat.

ERP No. D-AFS-L65361-ID Rating EC2, Myrtle-Cascade Project, Implementation of Resource Management Activities, Idaho Panhandle National Forests, Bonners Ferry Ranger District, Boundary County, ID.

Summary: EPA expressed concerns about impacts to water quality from proposed reconstruction of roads without a commensurate commitment of funds to maintain or obliterate those roads, and about declines in woodland caribou populations that occurred recently, and the potential impacts of the project to the caribou population in the area. EPA recommends that the EIS discuss in greater detail the effect on water quality if obliteration is not funded and the impacts on woodland caribou from project implementation.

ERP No. D-COE-K39061-CA Rating EC2, Rancho Palos Verdes Restoration Project, Implementation, City of Rancho Palos Verdes, Los Angeles County, CA.

Summary: EPA expressed environmental concerns regarding the water quality impacts projected to occur with construction and operation of the dike, and because the Corps did not evaluate alternatives that would avoid or minimize the placement of dredged or fill material in waters of the United States. EPA expressed additional concerns regarding potential air quality impacts, cumulative impacts, and environmental justice considerations.

ERP No. D-FHW-F54013-IL Rating EO2, Chicago—St. Louis High-Speed Rail Project, Improvement from Chicago to St. Louis to enhance the Passenger Transportation Network, NPDES Permit and COE Section 404 Permit, Cook, Will, Kankakee Grundy, Livington, McLean, Sangemon, Macoupin, Jersey, Madison and St. Louis Counties, IL and St. Louis County, MO.

Summary: EPA believes the RIA Alternative is environmentally preferable and lacks objections to it. The other two alternatives, NSA and IUA, distinctly have a greater impact to the environment. EPA therefore objects to these two alternatives and requests additional information regarding potential impacts to air quality as well as to threatened and endangered species.

ERP No. D-FHW-H40168-MO Rating LO, New Mississippi River Crossing, Relocated I-70 and I-64 Connector, Funding, COE Section 404 and 10 Permits and NPDES Permit, St. Louis County, MO.

Summary: EPA had no objection to the proposed action.

ERP No. D-IBR-K36132-CA Rating EO2, Colusa Basin Drainage District, Developing an Integrated Resource Management Program for the Control of Flooding, Glenn, Colusa and Yolo Counties, CA.

Summary: EPA strongly objected to the reliance on detention dams and reservoirs since they are likely to have significant adverse impacts to scarce high value habitats and the proposed mitigation (1:1 vs 3:1 compensation). In addition it is unlikely that the proposed alternatives will comply with the CWA 404(b)(1) Alternatives Analysis. EPA believes that the flood control program should provide an overall framework for local and regional flood control and include a broad range of nonstructural, managerial, and engineering options. The Program should not preclude opportunities to implement a comprehensive basin-wide solution for water supply, natural resource enhancement, and flood protection.

ERP No. D-UAF-J11018-WY Rating EC2, F. E. Warren Air Force Base Deactivation and Dismantlement of the Peacekeeper Missile System, To Comply with the Strategic Arms Reduction Treaty (START), Laramie, Platte and Goshen Counties, WY.

Summary: EPA expressed environmental concerns regarding potential ground water and tank removal impacts.

ERP No. DA-NOA-E64016-FL Rating LO, Florida Keys National Sanctuary Comprehensive Management Plan, New Information Concerning the Establishment of the Tortugas Marine Reserves in Seven Fishery Management Plans in the Gulf of Mexico.

Summary: While EPA has no objection to the proposed action, it did suggest that environmental justice issues and ecological monitoring be further clarified.

ERP No. DS-UAF-G11031-TX Rating EC2, Programmatic EIS—Kelly Air Force Base (AFB), Disposal and Reuse, Implementation, San Antonio County, TX.

Summary: EPA expressed environmental concerns regarding noise related impacts. In addition, EPA requested clarification of the air impact analysis and attainment status designations. EPA requested that the additional information/data be incorporated in the final EIS.

Final EISs

ERP No. F-COE-G36151-TX, Programmatic EIS—Upper Trinity River Basin Feasibility Study, To Provide Flood Damage Reduction, Environmental Restoration, Water Quality Improvement and Recreational Enhancement, Trinity River, Dallas-Fort Worth Metroplex, Dallas, Denton and Tarrant Counties, TX.

Summary: The Final EIS responded fully to EPA's comments on the Draft Programmatic Statement.

ERP No. F-FAA-F51045-OH, Cleveland Hopkins International Airport, To Provide Capacity, Facilities, Highway Improvements and Enhancement to Safety, Funding, Cugahoga County, OH.

Summary: EPA's environmental concerns identified in the draft EIS have been adequately addressed in FEIS. Consequently, our Agency has no objections to project implementation.

ERP No. F-FHW-K40234-HI, Puainako Street Extension and Widening, Traffic Circulation Improvements, Funding, South Hilo, Hawaii County, HI.

Summary: EPA continues to express concern regarding cumulative impacts and potential non-point source water pollution issues. EPA supports the commitment to including a cumulative impact analysis of the project area in subsequent regional transportation EISs and the development of detailed non-point source pollution prevention plans.

ERP No. F-IBR-K39050-CA, PROGRAMMATIC—CALFED Bay-Delta Program, Long-Term Comprehensive Plan to Restore Ecosystem Health and Improve Water Management, Implementation, San Francisco Bay—Sacramento/San Joaquin River Bay-Delta, CA.

Summary: No formal comment letter was sent to the preparing agency.

ERP No. FA-NOA-K91007-00, Pacific Coast Salmon Plan (1997) for Amendment 14, Fishery Management Plan, Comprehensive Updating, Exclusive Economic Zone (EEZ), Off the Coasts of WA, OR and CA.

Summary: No formal comment letter was sent to the preparing agency.

Dated: August 29, 2000.
Joseph C. Montgomery,
Director, NEPA Compliance Division, Office of Federal Activities.

[FR Doc. 00-22553 Filed 8-31-00; 8:45 am]

BILLING CODE 6560-50-U